DEPARTMENT OF JUSTICE

National Institute of Corrections

Solicitation for a Cooperative Agreement—“A Guide to Preparing for and Managing Prison Emergencies”

AGENCY: National Institute of Corrections, Department of Justice.

ACTION: Solicitation for a cooperative agreement.

SUMMARY: The Department of Justice (DOJ), National Institute of Corrections (NIC), announces the availability of funds in FY 2002 for a cooperative agreement to fund the project “A Guide to Preparing for and Managing Prison Emergencies”. NIC will award a one year cooperative agreement to develop a document which will assist correctional agencies in assessing and managing prisons during emergencies, including prison disturbances, work actions and natural and environmental disasters.

A cooperative agreement is a form of assistance relationship where the National Institute of Corrections is substantially involved during the performance of the award. An award will be made to an organization that will produce a document that can be distributed to state correctional agencies to use in the assessment and management of emergencies that would include but not be limited to managing natural and environmental disasters, riots, work stoppages, and other disturbances that may impact on normal operation of an institution and possibly the correctional system.

Background

The National Institute of Corrections has offered special interest seminars, “Managing Prisons During Natural and Environmental Disasters” and “Emergency Preparedness Assessment” over the last several years. Many agencies have taken numerous ideas back to their home agencies to implement during these challenging situations. The manuals used in the seminars are available to the field; however, a compilation of the materials into one document would be of benefit to practitioners as a centralized resource for an internal assessment of these issues and discussion of strategies for effective management in these situations.

Numerous changes in the correctional environment, such as budget reductions, changes in the characteristics of the workforce and changes in the demographics and characteristics of the inmate population, have created an even more pronounced need for assessing the current policies and procedures that systems have in place for managing emergencies.

Since the September 11 terrorist attacks, the need to effectively manage prisons during emergencies has taken on new urgency and a set of incidents previously not dealt with in the institutional setting. One example is a correctional system that was faced with a major rumor in the inmate population throughout the state that in the case of terrorist attacks, inmates would be considered a dispensable population and would be the last to receive assistance and their demise was likely. The same fears that have raised concern in the general public are multiplied in the prison setting when it comes to the distribution of resources during times of emergency coupled with the divided focus of staff due to their concern over the welfare of their families in these tense situations.

It is the goal of the Prisons Division to provide the most current information available to correctional managers in a practical and user-friendly format.

Purpose

To provide a Guide to assist correctional agencies in managing various emergencies and to make information regarding strategies which have proven successful available to all correctional agencies. To provide an assessment tool by which a correctional agency can assess their readiness to handle any emergency.

Scope of Work

The awardee will research the NIC training materials and other sources of information regarding emergencies and obtain specific information from various adult state and federal correctional agencies to complete the following tasks:

1. Update the assessment tool used in previous NIC programs as an example, not a model, of a comprehensive tool for assessing a correctional agency's preparedness for emergencies. Examples of assessment instruments from other correctional systems should also be considered and included in the Guide if awardee thinks advisable.

2. Provide a comprehensive list of the range of issues that a correctional agency should address in their emergency plans. Provide sample policies and procedures and examples of Memorandums of Understanding and other mutual aid documents that readers could use to improve their own Emergency Plans.

3. Develop an assessment protocol that systems can use in preparing for natural and environmental disasters and emergencies.

4. Identify emergencies which have occurred in all of the following areas: riots, disturbances, staff strikes, infectious disease contaminations, inmate work stoppages and hunger strikes, floods, ice storms, hurricanes, tornadoes, chemical spills, and other emergencies possibly not identified.

5. Provide a synopsis of one or more emergency situations in each category described above which occurred in an adult prison setting and describe how they were managed; provide information available from After—Action reports; and provide a detailed discussion of the “Lessons Learned” by the DOC that might help other systems.

6. Identify technology that could assist correctional agencies in preparing for emergency situations, such as simulation systems, communication systems for coordinating with external agencies, etc. This does not include basic radio or telephone systems, weaponry, chemical agents, etc. that are utilized in daily operations. The intent of this task is to identify technologies, especially newer technologies, which could assist agencies in preparing for and managing emergencies, but is not intended to occupy a major focus in the award.

Specific Requirements

1. The applicant must propose a project team which includes a person(s) with emergency preparedness expertise and correctional management and operations experience. Documentation of the principal's and all team members relevant knowledge, skills, and abilities to carry out the described tasks must be included in the application.

2. The person designated as project director needs to be the person who will manage the project on a day-to-day basis and who has full decision-making authority to work with the NIC project manager. This person must have enough time dedicated to the project to assure they are available to direct the day-to-day activities of the project and to be available for collaboration with the NIC project manager.

3. Applicants should identify in the proposal specific strategies for assuring a collaborative effort between their project team and NIC.

Application Requirements

The applicant must provide goals, objectives, and methods of implementation for the project that are consistent with this announcement. Objectives should be clear, measurable, attainable, and focused on the methods used to conduct the project. Applicants should provide an implementation plan for the project and include a schedule which will demonstrate milestones for significant tasks in chart form. The project must be completed within one year of its start date.

The applications should be concisely written, typed double-spaced, and referenced to the project by the number and title given in this cooperative agreement announcement. The narrative portion of this cooperative agreement application should include, at a minimum:

1. A Brief paragraph that indicates the applicant's understanding of the purpose of the document;

2. A brief paragraph that summarizes the project goals and objectives;

3. A clear descrption of the methodology that will be used to complete the project and achieve its goals with clearly identified tasks to achieve the project goals;

4. A statement or chart of measurable project milestones and time lines for the completion of each;

5. A description of the staffing plan for the project, including the role of each project staff, the time commitment for each, the relationship among the staff (who reports to whom), and an indication that all required staff will be available;

6. A statement from all project staff indicating that they will be available to work on this project;

7. A brief description of the qualifications of the applicant organization and each project staff;

8. A budget that details all costs for the project, shows consideration for all contingencies for this project, and notes a commitment to work within the budget proposed (budget should be divided into object class categories as shown on application Standard Form 424A).

Authority: Public Law 93-415.

Funds Available. The award will be limited to a maximum of $120,000 (direct and indirect costs). Funds may only be used for the activities that are linked to the desired outcome of the project. No funds are transferred to state or local governments. This project will be a collaborative venture with the NIC Prisons Division.

Application Procedures: Applicants must be submitted in six copies to the Director, National Institute of Corrections, 320 First Street, NW, Room 5007, Washington, DC 20534. At least one copy of the application must have the applicant's original signature in blue ink. A cover letter must identify the responsible audit agency for the applicant's financial accounts.

Deadline for Receipt of Applications: Applications must be received by 4:00 p.m. Eastern Standard Time on Tuesday, July 23, 2002. They should be addressed to Director, National Institute of Corrections, 320 First Street, NW., Room 5007, Washington, DC 20534. The NIC application number should be written on the outside of the mail or courier envelope. Applicants are encouraged to use Federal Express, UPS, or similar service to ensure delivery by due date as the mail at the National Institute of Corrections is still being delayed due to recent decontamination procedures implemented after recent events. Applications mailed or express delivery should be sent to: National Institute of Corrections, 320 First Street, NW, Room 5007, Washington, DC 20534, Attn: Director. Hand delivered applications can be brought to 500 First Street, NW, Washignton, DC 20534. The security officer will call our front desk at 307-3106 to come to the security desk for pickup. Faxed or e-mailed applications will not be accepted.

Addresses and Further Information: A copy of this announcement and applications forms may be obtained through the NIC web site: http.//www.nicic.org (under “Additional Opportunities” click on the title of this cooperative agreement.) Requests for a hard copy of the application forms, and announcement should be directed to Judy Evens, Cooperative Agreement Control Office, National Institute of Corrections, 320 First Street, NW., Room 5007, Washington, DC 20534 or by calling (800) 995-6423, extension 44222 or (202) 307-3106, extension 44222. She can also be contacted by E-mail via jevens@bop.gov.

All technical and or programmatic questions concerning this announcement should be directed to BeLinda P. Watson at the above address or by calling (800) 995-6423, extension 30483 or (202) 353-0483, or by E-mail via bpwatson@bop.gov.

Eligible Applicants: An eligible applicant is any state or general unit of local government, private agency, educational institution, organization, individuals or team with expertise in requested areas.

Review Considerations: Applications received under this announcement will be subjected to a 3 to 5 person Peer Review Process.

Number of Awards: One (1).

NIC Application Number: 021P11. This number should appear as a reference line in the cover letter and also in box 11 of Standard Form 424 and outside the envelope in which the application is sent.

Executive Order 12372: This program is not subject to the provisions of Executive Order 12372.

The Catalog of Federal Domestic Assistance number is 16.601: Corrections—Training and Staff Development.
Dated: June 7, 2002.
Larry Solomon,
Deputy Director, National Institute of Corrections.

[FR Doc. 02-14852 Filed 6-12-02; 8:45 am]

BILLING CODE 4410-36-M